NATIONAL FOUNDATION ON THE ARTS AND THE HUMANITIES

National Endowment for the Arts; Arts Advisory Panel

Pursuant to Section 10(a)(2) of the Federal Advisory Committee Act (Pub. L. 92-463), as amended, notice is hereby given that five meetings of the Arts Advisory Panel to the National Council on the Arts will be held at the Nancy Hanks Center, 1100 Pennsylvania Avenue, NW., Washington, DC 20506 as follows:

Media Arts/Arts on Radio and Television (application review): January 10-12, 2006 in Room 716. This meeting, from 9 a.m. to 6 p.m. on January 10th and 11th, and from 9 a.m. to 5 p.m. on January 12th, will be closed.

Folk & Traditional Arts/NEA National Heritage Fellowships (nomination review): January 17-20, 2006 in Room 716. This meeting, from 9 a.m. to 6:30 p.m. on January 17th and 18th, from 9 a.m. to 5:30 p.m. on January 19th, and from 9 a.m. to 3:30 p.m. on January 20th, will be closed.

State Partnership Agreements (application review): January 24-25, 2006 in Room 716. This meeting, from 9:30 a.m. to 6 p.m. on January 24th and from 8:30 a.m. to 4 p.m. on January 25th, will be open.

Arts Education/Summer Schools in the Arts (application review): January 26-27, 2006 in Room 730. This meeting, from 9 a.m. to 6 p.m. on January 26th and from 9 a.m. to 5 p.m. on January 27th, will be closed.

Regional Partnership Agreements (application review): February 2, 2006 by teleconference from Room 710. This meeting, from 3 p.m. to 5 p.m., will be open.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: December 20, 2005.
Kathy Plowitz-Worden,
Panel Coordinator, Panel Operations, National Endowment for the Arts.

[FR Doc. E5-7894 Filed 12-27-05; 8:45 am]

BILLING CODE 7537-01-P